DEPARTMENT OF TRANSPORTATION

Federal Aviation Administration

14 CFR Part 39

[Docket No. FAA-2012-0983; Directorate Identifier 2012-CE-001-AD; Amendment 39-17457; AD 2013-10-04]

RIN 2120-AA64

Airworthiness Directives; Piper Aircraft, Inc. Airplanes

AGENCY: Federal Aviation Administration (FAA), DOT.

ACTION: Final rule; correction.

SUMMARY: The FAA is correcting an airworthiness directive (AD) that published in the Federal Register. That AD applies to all Piper Aircraft, Inc. Models PA-31, PA-31-325, and PA-31-350 airplanes. Table 1 of paragraph (g) lists the incorrect model/part number for the Model PA-31-350, tail pipe assembly, top. This document corrects that error. In all other respects, the original document remains the same.

DATES: This final rule is effective September 5, 2013. The effective date for AD 2013-10-04 (78 FR 35110, June 12, 2013) remains July 17, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Gary Wechsler, Aerospace Engineer, Atlanta Aircraft Certification Office, FAA, 1701 Columbia Avenue, College Park, Georgia 30337; telephone: (404) 474-5575; fax: (404) 474-5606; email: gary.wechsler@faa.gov.

SUPPLEMENTARY INFORMATION: Airworthiness Directive 2013-10-04 (78 FR 35110, June 12, 2013), currently requires a detailed repetitive inspection of the exhaust system, expanding the inspection scope to include the entirety of each airplane exhaust system, and repair or replacement of parts as necessary for all Piper Aircraft, Inc. Models PA-31, PA-31-325, and PA-31-350 airplanes.

As published, the part number for the tail pipe assembly, top; under the Model PA-31-350; in Table 1 of paragraph (g) is incorrect.

No other part of the preamble or regulatory information has been changed; therefore, only the changed portion of the final rule is being published in the Federal Register.

The effective date of this AD remains July 17, 2013.

Correction of Regulatory Text

§ 39.13 [Corrected]

In the Federal Register of June 12, 2013, AD 2013-10-04; Amendment 39-17457 is corrected as follows:

On page 35114, we are revising Table 1 of paragraph (g)—Recurring 60-hour Inspections for Lycoming and Piper Exhaust System Parts, for the entry “tail pipe assembly, top” in the third sub-column of column 3, Model/part number, remove “40319-10” and add “40310-10” in its place.

Issued in Kansas City, Missouri, on August 28, 2013.
Earl Lawrence,
Manager, Small Airplane Directorate, Aircraft Certification Service.

[FR Doc. 2013-21453 Filed 9-4-13; 8:45 am]

BILLING CODE 4910-13-P